DEPARTMENT OF ENERGY

Federal Energy Regulatory Commission

Combined Notice of Filings #1

Take notice that the Commission received the following electric corporate filings:

Docket Numbers: EC06-129-009.

Applicants: Capital Research and Management Company.

Description: Request for Reauthorization and Extension of Blanket Authorizations Under Section 203 of the Federal Power Act of Capital Research and Management Co., et al.

Filed Date: 6/27/24.

Accession Number: 20240627-5295.

Comment Date: 5 p.m. ET 7/18/24.

Docket Numbers: EC24-94-000.

Applicants: Homer City Generation L.P., Knighthead Capital Management, LLC.

Description: Application for authorization under Section 203 of the Federal Power Act of Homer City Generation, L.P.

Filed Date: 6/25/24.

Accession Number: 20240625-5190.

Comment Date: 5 p.m. ET 7/16/24.

Take notice that the Commission received the following electric rate filings:

Docket Numbers: ER10-1817-032.

Applicants: Southwestern Public Service Company.

Description: Triennial Market Power Analysis for Central Region of Southwestern Public Service Company.

Filed Date: 6/27/24.

Accession Number: 20240627-5291.

Comment Date: 5 p.m. ET 8/26/24.

Docket Numbers: ER10-2738-013; ER11-4267-022; ER20-2586-004; ER20-2587-003; ER20-2669-003.

Applicants: Neosho Ridge Wind, LLC, Kings Point Wind, LLC, North Fork Ridge Wind, LLC, Algonquin Energy Services Inc., The Empire District Electric Company.

Description: Triennial Market Power Analysis for Southwest Power Pool Inc. Region of The Empire District Electric Company, et al.

Filed Date: 6/27/24.

Accession Number: 20240627-5298.

Comment Date: 5 p.m. ET 8/26/24.

Docket Numbers: ER12-164-025; ER10-1882-013; ER10-1894-013; ER10-2563-009; ER18-2203-005; ER19-1402-004; ER20-2288-005; ER22-2046-004.

Applicants: Sapphire Sky Wind Energy LLC, Tatanka Ridge Wind, LLC, Coyote Ridge Wind, LLC, Upper Michigan Energy Resources Corporation, Wisconsin Electric Power Company, Wisconsin Public Service Corporation, Wisconsin River Power Company, Bishop Hill Energy III LLC.

Description: Triennial Market Power Analysis for Central Region of Bishop Hill Energy III LLC, et al.

Filed Date: 6/28/24.

Accession Number: 20240628-5374.

Comment Date: 5 p.m. ET 8/27/24.

Docket Numbers: ER13-1910-004; ER16-1018-003; ER20-2771-002.

Applicants: Guzman Western Slope LLC, Guzman Renewable Energy Partners LLC, Guzman Power Markets.

Description: Triennial Market Power Analysis for Central Region of Guzman Energy LLC, et al.

Filed Date: 6/27/24.

Accession Number: 20240627-5294.

Comment Date: 5 p.m. ET 8/26/24.

Docket Numbers: ER18-803-002.

Applicants: EDF Trading North America, LLC.

Description: Triennial Market Power Analysis for Central Region of EDF Trading North America, LLC.

Filed Date: 6/26/24.

Accession Number: 20240626-5200.

Comment Date: 5 p.m. ET 8/26/24.

Docket Numbers: ER20-1505-008.

Applicants: Basin Electric Power Cooperative.

Description: Triennial Market Power Analysis for Southwest Power Pool Inc. Region of Basin Electric Power Cooperative.

Filed Date: 6/27/24.

Accession Number: 20240627-5293.

Comment Date: 5 p.m. ET 8/26/24.

Docket Numbers: ER20-2379-006; ER10-310-006; ER10-2738-014; ER15-2631-011; ER16-2703-008; ER22-2513-003.

Applicants: Deerfield Wind Energy 2, LLC, Deerfield Wind Energy, LLC, Odell Wind Farm, LLC, The Empire District Electric Company, Algonquin Energy Services Inc., Sugar Creek Wind One LLC.

Description: Triennial Market Power Analysis for Central Region of Sugar Creek Wind One LLC, et al.

Filed Date: 6/27/24.

Accession Number: 20240627-5300.

Comment Date: 5 p.m. ET 8/26/24.

Docket Numbers: ER21-2818-006.

Applicants: Tri-State Generation and Transmission Association, Inc.

Description: Compliance filing: Revisions to Rate Schedule No. 281 in Compliance with the May 23 Order to be effective 11/1/2021.

Filed Date: 6/28/24.

Accession Number: 20240628-5346.

Comment Date: 5 p.m. ET 7/19/24.

Docket Numbers: ER24-1576-001.

Applicants: Maple Flats Solar Energy Center LLC.

Description: Compliance filing: Revised Tariff Filing to be effective 8/28/2024.

Filed Date: 6/28/24.

Accession Number: 20240628-5329.

Comment Date: 5 p.m. ET 7/19/24.

Docket Numbers: ER24-1711-001.

Applicants: Split Rail Solar Energy LLC.

Description: Compliance filing: Revised Tariff Changes Filing to be effective 8/28/2024.

Filed Date: 6/28/24.

Accession Number: 20240628-5322.

Comment Date: 5 p.m. ET 7/19/24.

Docket Numbers: ER24-2112-001.

Applicants: Public Service Company of New Mexico.

Description: Tariff Amendment: Amendment to Effective Date to be effective 5/29/2024.

Filed Date: 6/28/24.

Accession Number: 20240628-5339.

Comment Date: 5 p.m. ET 7/19/24.

Docket Numbers: ER24-2425-000.

Applicants: Buckeye Plains Solar Project, LLC.

Description: § 205(d) Rate Filing: Joint Application for Market-Based Rate Authority to be effective 7/10/2024.

Filed Date: 6/28/24.

Accession Number: 20240628-5295.

Comment Date: 5 p.m. 7/19/24.

Docket Numbers: ER24-2426-000.

Applicants: Pickaway County Solar Project, LLC.

Description: § 205(d) Rate Filing: Joint Application for Market-Based Rate Authority to be effective 7/10/2024.

Filed Date: 6/28/24.

Accession Number: 20240628-5300.

Comment Date: 5 p.m. 7/19/24.

Docket Numbers: ER24-2427-000.

Applicants: Public Service Company of New Mexico.

Description: § 205(d) Rate Filing: WAPA-Farmington Pseudo-Tie Coordination to be effective 7/1/2024.

Filed Date: 6/28/24.

Accession Number: 20240628-5304.

Comment Date: 5 p.m. 7/19/24.

Docket Numbers: ER24-2428-000.

Applicants: EnerPenn USA LLC.

Description: Tariff Amendment: EnerPenn USA LLC Notice of MBR Cancellation Filing to be effective 6/29/2024.

Filed Date: 6/28/24.

Accession Number: 20240628-5311.

Comment Date: 5 p.m. 7/19/24.

Docket Numbers: ER24-2429-000.

Applicants: Public Service Company of New Mexico.

Description: Compliance filing: Amendment to Update eTariff Priortiy Order to be effective 1/27/2020.

Filed Date: 6/28/24.

Accession Number: 20240628-5342.

Comment Date: 5 p.m. 7/19/24.

Docket Numbers: ER24-2430-000.

Applicants: New England Power Pool Participants Committee.

Description: § 205(d) Rate Filing: Jul 2024 Membership Filing to be effective 7/1/2024.

Filed Date: 6/28/24.

Accession Number: 20240628-5343.

Comment Date: 5 p.m. 7/19/24.

Docket Numbers: ER24-2431-000.

Applicants: Duke Energy Progress, LLC, Duke Energy Carolinas, LLC.

Description: § 205(d) Rate Filing: Duke Energy Progress, LLC submits tariff filing per 35.13(a)(2)(iii: DEC-DEP Revisions to Attachment K to Joint OATT (LGIP/LGIA) to be effective 9/1/2024.

Filed Date: 6/28/24.

Accession Number: 20240628-5352.

Comment Date: 5 p.m. 7/19/24.

Docket Numbers: ER24-2432-000.

Applicants: Lockhart Solar PV, LLC.

Description: Baseline eTariff Filing: Facilities Use Agreements to be effective 8/12/2024.

Filed Date: 7/1/24.

Accession Number: 20240701-5123.

Comment Date: 5 p.m. 7/22/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: July 1, 2024.
Debbie-Anne A. Reese,
Acting Secretary.

[FR Doc. 2024-14952 Filed 7-8-24; 8:45 am]

BILLING CODE 6717-01-P